DEPARTMENT OF LABOR

Employment and Training Administration

[TA-W-53,599]

American Allsafe Company; Allsafe Services & Materials Company; A Division of Jackson Products, Inc.; Tonawanda, NY; Amended Certification Regarding Eligibility To Apply for Worker Adjustment Assistance

In accordance with Section 223 of the Trade Act of 1974 (19 U.S.C. 2273) 1974, as amended, the Department of Labor issued a Certification of Eligibility to Apply for Worker Adjustment Assistance on December 12, 2003, applicable to workers of American Allsafe Company, a Division of Jackson Products, Inc., Tonawanda, New York. The notice was published in the Federal Register on January 16, 2004 (69 FR 2624).

At the request of a company official, the Department reviewed the certification for workers of the subject firm. The workers produced hard hats, safety glasses, safety goggles and bar guards.

The company official informed the Department that during the period of this certification the American Allsafe Company division of Jackson Products, Inc., was consolidated into Allsafe Services & Materials Company. While the certification was in effect, eight workers of American Allsafe Company (Susie Greene, Susan Brzozowski, David Smolen, Wendy Bacon, Patricia Fehr, Richard Janas, Teresa Berkel, and Jon Rothenmeyer) had wages reported under the Unemployment Insurance tax account for Allsafe Services & Materials Company.

Based on this new information, the Department is amending the certification to include the eight workers of American Allsafe Company identified above whose wages were reported to Allsafe Services & Materials Company.

The amended notice applicable to TA-W-53,599 is hereby issued as follows:

All workers of American Allsafe Company, including the workers Susie Green, Susan Brzozowski, David Smolen, Wendy Bacon, Patricia Fehr, Richard Janas, Teresa Berkel, and Jon Rothenmeyer, whose Unemployment Insurance wages were reported to Allsafe Services & Materials Company, a Division Of Jackson Products, Inc., Tonawanda, New York, who became totally or partially separated from employment on or after November 7, 2002 through December 12, 2005, are eligible to apply for adjustment assistance under section 223 of the Trade Act of 1974.

Signed at Washington, DC, this 10th day of February 2006.
Linda G. Poole,
Certifying Officer, Division of Trade Adjustment Assistance.

[FR Doc. E6-3056 Filed 3-2-06; 8:45 am]

BILLING CODE 4510-30-P